DEPARTMENT OF DEFENSE

Office of the Secretary

Closed Meeting of the Threat Reduction Advisory Committee

AGENCY: Office of the Under Secretary of Defense (Acquisition, Technology and Logistics), DoD.

ACTION: Federal Advisory Committee meeting notice.

SUMMARY: Under the provisions of the Federal Advisory Committee Act of 1972 (5 U.S.C., Appendix, as amended) and the Sunshine Act of 1976 (5 U.S.C. 552b, as amended) the Department of Defense announces the following Federal advisory committee meeting of the Threat Reduction Advisory Committee (Hereafter referred to as “the Committee”).

DATES: Wednesday, May 11, 2011, from 8 a.m. to 4 p.m.

ADDRESSES: ANSER Conference Center, Platt Conference Room, 2900 S. Quincy St., Suite 800, Arlington, VA 22206.

FOR FURTHER INFORMATION CONTACT: Contact Mr. William Hostyn, Defense Threat Reduction Agency/SP-ACP, 8725 John J. Kingman Road, MS 6201, Fort Belvoir, VA 22060-6201; E-mail: william.hostyn@dtra.mil; Phone: (703) 767-4453; Fax: (703) 767-5701.

SUPPLEMENTARY INFORMATION: Purpose of Meeting: To obtain, review and evaluate classified information related to the Committee's mission to advise on technology security, combating weapons of mass destruction (WMD), counter terrorism and counter proliferation.

Agenda: Beginning at 8 a.m. through the end of the meeting, the Committee will present Working Group findings at the secret level in the morning and will receive secret level briefings on counterterrorism, counterproliferation and WMD world events in the morning and afternoon.

Meeting Accessibility: Pursuant to 5 U.S.C. 552b, as amended, and 41 CFR 102-3.155, the Department of Defense has determined that the meeting shall be closed to the public. The Undersecretary of Defense (Acquisition, Technology and Logistics), in consultation with the DoD FACA Attorney, has determined in writing that this meeting be closed to the public because the discussions fall under the purview of Title 5, United States Code, Section 552b(c)(1) and are inextricably intertwined with the unclassified material that they cannot reasonably be segregated into separate discussions without disclosing secret or classified material.

Committee's Designated Federal Officer or Point of Contact: Mr. William Hostyn, Defense Threat Reduction Agency/SP/SP, 8725 John J. Kingman Road, MS 6201, Fort Belvoir, VA 22060-6201; E-mail: william.hostyn@dtra.mil; Phone: (703) 767-4453; Fax: (703) 767-5701.

Written Statements: Pursuant to 41 CFR 102-3.105(j) and 102-3.140, the public or interested organizations may submit written statements to the membership of the Committee at any time or in response to the stated agenda of a planned meeting. Written statements should be submitted to the Committee's Designated Federal Officer; the Designated Federal Officer's contact information can be obtained from the GSA's FACA Database— https://www.fido.gov/facadatabase/public.asp.

Written statements that do not pertain to a scheduled meeting of the Committee may be submitted at any time. However, if individual comments pertain to a specific topic being discussed at a planned meeting then these statements must be submitted no later than five business days prior to the meeting in question. The Designated Federal Officer will review all submitted written statements and provide copies to all committee members.

Dated: April 20, 2011.
Morgan F. Park,
Alternate OSD Federal Register Liaison Officer, Department of Defense.

[FR Doc. 2011-9950 Filed 4-22-11; 8:45 am]

BILLING CODE 5001-06-P